PANAMA CANAL COMMISSION

48 CFR Chapter 35

Federal Acquisition Regulations

Removal of CFR Chapter

Effective October 1, 2004, the Panama Canal Commission was terminated by Public Law 108-309. Therefore the Office of the Federal Register is removing the Panama Canal Commission's regulations pursuant to its authority to maintain an orderly system of codification under 44 U.S.C. 1510 and 1 CFR 8.2

Accordingly, 48 CFR is amended by removing Chapter 35 consisting of parts 3501 through 3599.

[FR Doc. 04-55528 Filed 12-15-04; 8:45 am]

BILLING CODE 1505-01-D